INTERNATIONAL TRADE COMMISSION

[Investigation No. 337-TA-1209]

Certain Movable Barrier Operator Systems and Components Thereof Notice of Commission Decision Not to Review an Initial Determination Granting an Unopposed Motion for Return of Bond; Return of Bond; Termination of Bond Return Proceeding

AGENCY: International Trade Commission.

ACTION: Notice.

SUMMARY: Notice is hereby given that the U.S. International Trade Commission has determined not to review an initial determination (“ID”) of the presiding Administrative Law Judge (“ALJ”) granting an unopposed motion of respondent The Chamberlain Group, LLC of Oak Brook, Illinois (“Chamberlain”) for the return of the bond it paid under the remedial orders during the period of Presidential review. The bond is returned to Chamberlain, and the bond return proceeding is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On August 10, 2020, the Commission instituted an investigation under section 337 of the Tariff Act of 1930, as amended, 19 U.S.C. 1337 (“section 337”), based on a complaint filed by Overhead Door Corporation of Lewisville, Texas and GMI Holdings Inc. of Mount Hope, Ohio (collectively, “Overhead Door”). See 85 FR 48264-65 (Aug. 10, 2020). The complaint, as supplemented, alleged a violation of section 337 based upon the importation into the United States, the sale for importation, and the sale within the United States after importation of certain movable barrier operator systems and components thereof by reason of infringement of U.S. Patent Nos. 8,970,345 (“the '345 patent”); 7,173,516 (“the '516 patent”); 7,180,260 (“the '260 patent”); 9,483,935 (“the '935 patent”); 7,956,718 (“the '718 patent”); and 8,410,895 (“the '895 patent”). See id. The notice of investigation named Chamberlain (formerly, The Chamberlain Group, Inc.) as the respondent in this investigation. See id. The Office of Unfair Import Investigations (“OUII”) was not named as a party. See id.

On February 10, 2021, the Commission terminated the investigation as to the '516 patent based on the withdrawal of the allegations in the complaint as to that patent. See Order No. 10 (Jan. 19, 2021), unreviewed by Comm'n Notice (Feb. 10, 2021).

On February 9, 2022, the Commission issued a final determination finding a violation of section 337 based on Chamberlain's infringement of the asserted claims of the '935, '718, and '895 patents, but not the '345 and '260 patents. See 87 FR 8605-06 (Feb. 15, 2022). The Commission further determined to: (1) issue a limited exclusion order against Chamberlain's infringing products and a cease and desist order against Chamberlain (collectively, the “remedial orders”); and (2) set a bond during the period of Presidential review in the amount of one hundred (100) percent of the entered value of the infringing articles. See id. On March 30, 2022, the Commission issued modified remedial orders to confirm that the covered products or articles in the remedial orders include garage door openers, gate operators, and commercial operators. See 87 FR 19709-10 (Apr. 5, 2022).

On April 11 and 12, 2022, respectively, Overhead Door and Chamberlain filed appeals from the Commission's final determination with the U.S. Court of Appeals for the Federal Circuit. See Chamberlain Grp., LLC v. ITC, Appeals Nos. 22-1664, 22-1656 (consolidated). On June 14, 2023, the Federal Circuit dismissed the appeals based on a joint stipulation of voluntary dismissal. See Chamberlain Grp., LLC v. ITC, Order, Appeal No. 22-1664, ECF No. 95 (Fed. Cir. June 14, 2023).

On August 5, 2022, the Commission instituted an enforcement proceeding under Commission Rule 210.75 (19 CFR 210.75) to investigate alleged violations of the remedial orders by Chamberlain's legacy and redesigned products. See 87 FR 48039 (Aug. 5, 2022). In addition to Overhead Door and Chamberlain, OUII was also named as a party to the enforcement proceeding. See id. The Commission subsequently terminated the enforcement proceeding based on settlement. See Order No. 26 (June 14, 2023), unreviewed by Comm'n Notice (July 12, 2023).

On June 13, 2023, Overhead Door and Chamberlain filed a joint petition to rescind the remedial orders (original and modified) based on the settlement agreement. On July 12, 2023, the Commission determined to institute a rescission proceeding and to rescind the remedial orders (original and modified). Comm'n Notice (July 12, 2023). The rescission proceeding has been terminated. Id.

On June 15, 2023, Chamberlain filed an unopposed motion for the return of the bond it posted under the remedial orders during the period of Presidential review. On June 20, 2023, OUII filed a response in support of the motion.

On June 28, 2023, the ALJ issued the subject ID (Order No. 27) granting the motion. See ID at 2; see also id. at 1 (incorrectly referring to the exclusion order as a general exclusion order rather than a limited exclusion order). The ID notes that the motion was filed within 30 days after the resolution of the appeal, in compliance with Commission Rule 210.50(d)(1)(ii) (19 CFR 210.50(d)(1)(ii)). See ID at 2. The ID also finds “no reason to deny Chamberlain's request for the return of bond.” See id. No petition for review of the subject ID was filed.

The Commission has determined not to review the subject ID. The bond is returned to Chamberlain. The bond return proceeding is terminated.

The Commission's vote on this determination took place on July 20, 2023.

The authority for the Commission's determination is contained in section 337 of the Tariff Act of 1930, as amended (19 U.S.C. 1337), and in part 210 of the Commission's Rules of Practice and Procedure (19 CFR part 210).

By order of the Commission.
Issued: July 20, 2023.
Lisa Barton,
Secretary to the Commission.

[FR Doc. 2023-15738 Filed 7-24-23; 8:45 am]

BILLING CODE 7020-02-P